DEPARTMENT OF COMMERCE

Minority Business Development Agency

15 CFR Part 1400

[Docket No. 120517080-2402-04]

Petition for Inclusion of the Arab-American Community in the Groups Eligible for MBDA Services

AGENCY: Minority Business Development Agency, Commerce.

ACTION: Notice of proposed rulemaking and request for comments; amendment.

SUMMARY: The Minority Business Development Administration publishes this notice to extend the date on which it plans to make its decision on a petition from the American-Arab Anti-Discrimination Committee requesting formal designation from August 30, 2012 to November 30, 2012.

FOR FURTHER INFORMATION CONTACT: For further information about this Notice, contact Josephine Arnold, Minority Business Development Agency, 1401 Constitution Avenue NW., Room 5053, Washington, DC 20230, (202) 482-2332.

SUPPLEMENTARY INFORMATION: On May 30, 2012, the Minority Business Development Agency (MBDA) published a notice of proposed rulemaking and request for comments regarding a petition received on January 11, 2012 from the American-Arab Anti-Discrimination Committee (ADC) requesting formal designation of Arab-Americans as a minority group that is socially or economically disadvantaged pursuant to 15 CFR Part 1400. The Notice included a thirty-day comment period that ended on June 29, 2012, but also stated that MBDA will make a decision on the petition no later than June 27, 2012. On June 12, 2012, MBDA published a notice in the Federal Register extending the date for making its decision to July 30, 2012. On August 3, 2012, MBDA published a second amendment to extend the deadline for the decision until August 30, 2012, to allow MBDA to complete its independent review and analysis of the issues raised in the petition and comments received to the petition. The Agency has determined that further analysis of the information collected during its independent review is necessary to ensure a reasoned and sound decision. Therefore, MBDA is extending, for an additional ninety (90) day period, its consideration of the issues addressed in the petition and the information presented by MBDA's independent review. The Agency will make its decision on the petition on or before November 30, 2012. This extension will not prejudice the petitioner.

Minority Business Development Agency.
David Hinson,
National Director.

[FR Doc. 2012-21704 Filed 8-31-12; 8:45 am]

BILLING CODE 3510-21-P